DEPARTMENT OF TRANSPORTATION

Federal Aviation Administration

Office of Commercial Space Transportation; Finding of No Significant Impact

AGENCY: The Federal Aviation Administration (FAA), Department of Transportation (DOT).

ACTIONS: Finding of No Significant Impact.

SUMMARY: The Federal Aviation Administration (FAA), in cooperation with the United States Air Force (USAF), prepared an Environmental Assessment (EA) to evaluate Space Florida's proposal to operate a commercial launch site at Launch Complex 46 (LC-46) at Cape Canaveral Air Force Station (CCAFS) in Florida. The EA evaluated the potential environmental impacts associated with the Proposed Action and alternatives regarding the issuance of a Launch Site Operator License to Space Florida for LC-46 at CCAFS. After reviewing and analyzing currently available data and information on existing conditions and project impacts, the FAA has determined that issuing a Launch Site Operator License to Space Florida for the operation of a commercial launch site at LC-46 would not significantly impact the quality of the human environment within the meaning of the National Environmental Policy Act. Therefore, the preparation of an Environmental Impact Statement is not required, and the FAA is issuing a Finding of No Significant Impact. The FAA made this determination in accordance with all applicable environmental laws.

For a Copy of the Environmental Assessment: Visit the following Internet address: http://www.faa.gov/about/office_org/headquarters_offices/ast/licenses_permits/launch_site/environmental/ or contact Ms. Stacey M. Zee, FAA Environmental Specialist, 800 Independence Avenue, SW., Room 331, Washington, DC 20591. You may also send e-mail requests to Stacey.Zee@faa.gov or via telephone to (202) 267-9305.

Purpose and Need: The purpose of the FAA's action in issuing the Launch Site Operator License is to ensure compliance with international obligations of the United States and to protect the public health and safety, safety of property, and national security and foreign policy interest of the United States during commercial launch or reentry activities; to encourage, facilitate, and promote commercial space launches and re-entries by the private sector; and to facilitate the strengthening and expansion of the United States space transportation infrastructure, in accordance with the requirements of the Commercial Space Launch Amendments Act of 2004, the Commercial Space Transportation Act of 2000, Executive Order (EO) 12465, 14 Code of Federal Regulations (CFR) Parts 400-450, the National Space Transportation Policy, and the National Space Policy.

The Proposed Action is needed to meet the demand for lower cost access to space. Less expensive space launch capability is necessary to support rising industries, such as more cost-effective commercial, governmental, and scientific satellite launches. Given the infrastructure and development costs associated with constructing launch facilities, the Federal government has been the owner/operator or has leased/sold unused or excess infrastructure and provided expertise to commercial launch operators for the majority of commercial launches. The Secretary of Transportation has assigned the FAA Office of Commercial Space Transportation responsibility, under the Commercial Space Launch Amendment Acts and EO 12465, for oversight of commercial space launch activities, including licensing of launch and reentry sites.

Proposed Action: Under the Proposed Action, the FAA would issue a Launch Site Operator License for LC-46 to Space Florida. LC-46 is owned by the USAF's 45th Space Wing. Space Florida and the 45th Space Wing have a Memorandum of Agreement and Joint Operating Procedures, which allow Space Florida to conduct launch activities at the site. A Launch Site Operator License, which is valid for five years, would allow Space Florida to offer the site for launches of solid- and liquid-propellant launch vehicles. Potential commercial launch vehicle operators would be required to obtain a Launch License from the FAA to conduct launch operations at LC-46 on CCAFS.

Under the Proposed Action, Space Florida would offer the launch site to launch operators for several types of vertical launch vehicles, including Athena-1 and Athena-2, Minotaur, Taurus, Falcon 1, Alliant Techsystems small launch vehicles and launches of other Castor® 120-based or Minuteman-derivative booster vehicles. Space Florida proposes to support a maximum of 24 annual launches, including 12 solid propellant launches and 12 liquid propellant launches. The proposed launch vehicles and their payloads would be launched into low earth orbit or geostationary orbit. All vehicles are expected to carry payloads, including satellites.

The Proposed Action does not include any construction or modification to the site. Launches would be conducted using existing infrastructure. Periodic maintenance, such as mowing or repairs, would occur on the site to ensure launch safety. To ensure the safety of all launch activities, the site would require minor repairs.

Alternatives Considered: Alternatives analyzed in the EA include (1) the Proposed Action and (2) the No Action Alternative. Under the No Action Alternative, the FAA would not issue the Launch Site Operator License to Space Florida. Launch operators may be able to conduct launch activities at LC-46; however, operations would be controlled by the 45th Space Wing of the USAF. Other activities, such as military exercises at CCAFS would not be impacted.

Environmental Impacts

Air Quality

Emissions of any criteria pollutants associated with the Proposed Action would be well below Federal de minimis levels and would not be expected to cause exceedances of the National Ambient Air Quality Standards or Florida Ambient Air Quality Standards. Emissions of carbon dioxide (CO2) to the stratosphere under the Proposed Action would be negligible in comparison with U.S. annual emissions of CO2, and therefore would not have a significant impact on global climate change. Emissions of water vapor (H2O) to the stratosphere under the Proposed Action would not have a significant impact on global climate change due to the large number of natural and anthropogenic sources of H2O. Carbon monoxide (CO) and nitrogen oxides (NOX) emissions in the stratosphere would be extremely small relative to U.S. annual emissions; therefore, the presence of these chemicals in rocket emissions associated with the Proposed Action would have a negligible impact on global climate change. Significant impacts to ozone from particulate (aluminum oxide) emissions and hydrochloric acid are not anticipated under the Proposed Action.

Biological Resources—Fish, Wildlife, Plants, and Special Status Species

The Proposed Action would not have a significant impact on terrestrial vegetation and wildlife. Localized foliar scorching and spotting would not be expected to cause long-term damage to vegetation. Birds and terrestrial mammals in the immediate area could suffer startle responses during launch activities. However, it is expected that birds and terrestrial mammals would return to pre-launch conditions soon after the launch. Terrestrial mammals could also experience temporary threshold shift effects. However, these effects would be temporary and would not have significant impacts on local populations.

Acidification of nearby surface water due to launch emissions would not be expected to adversely affect aquatic habitats since the area is subjected to wind-blown salt spray and mixing with the open ocean. In the unlikely event of a launch failure, remaining propellant would be quickly diluted within the ocean. Direct strikes on aquatic species, such as marine mammal, turtle, or fish, due to a launch failure or an aborted launch relating to the Proposed Action are very unlikely. Sonic booms would not be expected to negatively impact the survival of any marine species because of their low frequency, the low density of marine species in the ocean's surface water, and the distance of the sonic boom footprint from CCAFS.

Minimal impacts on endangered, threatened, and special status species are anticipated under the Proposed Action. No native habitats would be cleared or directly impacted. Lights from launch activities may adversely affect the sea turtle population along the Atlantic coastline. Light management plans would be developed to minimize these impacts. The majority of effects from launch activities would be short-term, of relatively low intensity, and would occur relatively infrequently due to the launch rate.

Water Resources (Surface Water, Ground Water, Floodplains, and Wetlands)

Short-term and long-term adverse impacts to surface water quality resulting from the launch exhaust cloud would not be significant due to the relatively high salinities and predictable pH stabilities of estuarine and ocean waters. The pH level of near-field surface water may decline for a period of time. However, pre-launch conditions are expected to return within several hours. Short-term impacts to near shore environments could occur as a result of contamination from rocket propellant associated with a launch anomaly. However, long-term impacts would not be significant due to the buffering capacity of the Atlantic Ocean and Banana River. Release of residual propellant from the Falcon 1's recoverable first stage upon impact with the ocean would not significantly affect water quality because of the small volume of this release into the open ocean. Emergency response and clean-up procedures would reduce the magnitude and duration of any impacts to ground water from an on-pad accidental or emergency propellant release.

Ground water is not expected to be impacted by the Proposed Action. The proposed launches are not expected to interfere with the current remedial action occurring on the site. Additionally, potential emission deposition of hydrochloric acid from the launches is expected to be relatively minor. Leaching acid storm water would be diluted quickly in the ground water system.

Major short-term and long-term impacts to floodplains and wetlands from the launch exhaust cloud would not be expected due to the low probability of a storm event after a launch. Emergency response and clean-up procedures would reduce the magnitude and duration of any impacts to floodplains and wetlands from accidental propellant releases.

Noise

The annual Day Night Average Sound Level (DNL) of the Proposed Action at the City of Cape Canaveral would be substantially lower than 65 DNL. The Proposed Action is not expected to have a significant noise impact on the surrounding areas. The annual C-weighted DNL (CDNL) of the Proposed Action at the City of Cape Canaveral would be substantially lower than 61 CDNL. Sonic booms associated with the Proposed Action are not expected to have a significant impact on the surrounding areas. The magnitude of sonic booms associated with the Proposed Action would be well below 10 pounds per square foot and would occur over the ocean; therefore, no structural damage impacts are expected. Additionally, sonic booms would not have a significant impact on marine animals.

Compatible Land Use (Section 4(f) Lands, Light Emissions, and Visual Resources, and Coastal Resources)

Implementation of the Proposed Action would not change any planned or existing land use designations. There are no Section 4(f) lands located at LC-46. The nearest site is located five miles southwest of the launch site. Launch activities and effects would be contained within the boundaries of LC-46; therefore, no impacts are expected on Section 4(f) lands. The Proposed Action does not involve construction or development, and is similar to existing activities at LC-46; therefore, there would not be any new or additional visual resource impacts, or any coastal resource impacts. Light emissions would be minimized through the use of low-pressure sodium light fixtures, shielding of lights, and special light management steps where lights are visible from the beach.

Socioeconomic Resources

Additional personnel for launch-related activities would not increase the demand for existing services, including housing, hotels, restaurants, and transportation, in Brevard County. The Proposed Action would not necessitate the relocation of local residents or businesses. Traffic would not be significantly affected during pre- and post-launch activities. Launches may increase tourism in the region, and there may be a slight short-term positive impact on socioeconomic resources from additional tourism.

Hazardous Materials, Solid Waste, and Pollution Prevention

The primary hazardous materials used under the Proposed Action would be propellants. In addition to the propellants, other hazardous materials (e.g., various composites, synthetics, and metals) may be used for rocket operation, including solvents, oils, and paints. All hazardous materials and hazardous waste would be handled and disposed of in accordance with the CCAFS Environmental Standards and Safety Standards and Space Florida's Hazardous Waste Management Plan. Hazardous waste streams anticipated to be generated by the Proposed Action are typical of other hazardous waste streams in Florida. The Proposed Action would not be expected to generate more hazardous waste than can be safely handled by CCAFS and existing hazardous waste management plans would not be expected to change.

Solid waste would be expected to increase slightly with the increase in launches. The amount of solid waste generated would be handled under existing collection and disposal operations.

Space Florida would develop a Pollution Prevention Management Plan, in coordination with CCAFS' pollution prevention plans and goals, to comply with all local, State, and Federal regulations.

Cumulative Impacts

Cumulative impacts are “the incremental impact of the actions when added to other past, present, and reasonably foreseeable future action regardless of what agency (Federal or non-Federal) or person undertakes such other actions” (40 CFR 1508.7). For this analysis, cumulative impacts include impacts from the vehicles that would be launched under Space Florida's license and the past, present, and reasonably foreseeable future activities that would affect the resources impacted by the Proposed Action. The following summary discusses the cumulative impacts from present and reasonably foreseeable actions at CCAFS and in the surrounding areas, including Kennedy Space Center and the Merritt Island National Wildlife Refuge. These activities may potentially affect the same resources as the Proposed Action within the life of the Proposed Action (2008-2013).

Air Quality

The Proposed Action, in addition to the past, present, and reasonably foreseeable actions in the project area, would result in a minor, temporary increase in air emissions in an area that is currently in attainment for all criteria pollutants. The emissions of greenhouse gases and ozone depleting substances would be extremely small in the context of national and global emissions. Because these impacts would be minor and temporary, the incremental contribution to cumulative air quality impacts from the Proposed Action would not be significant.

Biological Resources (Fish, Wildlife, Plants, and Special Status Species)

The impacts from the Proposed Action would likely be less than at other launch pads since the vehicles are relatively small, resulting in less noise, air emissions, and scorching, and would only be launched approximately twice per month. Because the Proposed Action would create minimal artificial light at night, it would not significantly impact nearby sea turtle hatchlings. The impacts to biological resources would be temporary and relatively infrequent; therefore, the incremental contribution to cumulative biological impacts from the Proposed Action would not be significant.

Water Resources (Surface Water, Ground Water, Floodplains, and Wetlands)

The Proposed Action's water requirements would not affect operating requirements of other programs in the project's vicinity, and would have a minimal effect on cumulative water supply. Because the Proposed Action would have a minor and temporary impact on the water resources of the affected region, the incremental contribution to cumulative water resource impacts from the Proposed Action would not be significant.

Noise

The area surrounding the project has a long history of commercial space rocket and NASA space shuttle launches resulting launch-related noise. Noise impacts associated with launch activities in the area would be brief and temporary. Because these projects have minor and temporary noise impacts, the incremental contribution to cumulative noise impacts from the Proposed Action would not be significant.

Land Use (Section 4(f), Visual Resources, and Coastal Resources)

The area surrounding the project has historically been used for launching rockets and NASA space shuttles and contains launch infrastructure and associated facilities for those past and present actions. The Proposed Action would have no effect on coastal resources, Section 4(f) resources, or compatible land use; therefore, the incremental contribution to cumulative land use impacts from the Proposed Action would not be significant.

Socioeconomic Resources

The project area has long been used by the commercial space industry and NASA for space shuttle launches. All projects in the Proposed Action area would have small, positive socioeconomic impacts. The incremental contribution to cumulative socioeconomic impacts from the Proposed Action would not be significant.

Hazardous Materials, Solid Waste, and Pollution Prevention

The area surrounding the project has a long history of commercial space rocket and NASA space shuttle launches, and past and present actions have required the use and handling of hazardous materials. Cumulative impacts from hazardous materials and hazardous waste management could occur on the portions of CCAFS with historic soil and ground water contamination, including LC-46. However, significant cumulative impacts are not expected due to the remediation activities that have been completed at the site.

Relationship between Short-Term Uses and Long-Term Productivity

Under the Proposed Action, there would be short-term impacts to the environment; however, none of these impacts would be long-term or significant. As a result, the Proposed Action is not expected to narrow the range of beneficial uses of the environment in the long-term or pose a long-term risk to human health or safety.

Irreversible and Irretrievable Commitment of Resources

Under the Proposed Action, no irreversible or irretrievable commitment of resources is expected to occur in any of the environmental resource areas analyzed in this EA. The Proposed Action would expend solid and liquid propellants; however, the amounts of propellants and other materials that would be expended as part of the Proposed Action are negligible compared to the quantities routinely produced. No construction activities would occur and launches at the site would be of a small-scale and would occur relatively infrequently. As a result, no significant irreversible or irretrievable commitment of resources is expected.

Determination: An analysis of the Proposed Action has concluded that there are no significant short-term, long-term, or cumulative effects to the environment or surrounding populations. After careful and thorough consideration of the facts herein, the undersigned finds that the proposed Federal action is consistent with existing national environmental policies and objectives set forth in Section 101(a) of the National Environmental Policy Act of 1969 and that it will not significantly affect the quality of the human environment or otherwise include any condition requiring additional consultation pursuant to Section 102(2)(c) of the National Environmental Policy Act. Therefore, an Environmental Impact Statement for the Proposed Action is not required.

Issued in Washington, DC on September 2, 2008.
George Nield,
Associate Administrator for Commercial Space Transportation.

[FR Doc. E8-22020 Filed 9-19-08; 8:45 am]

BILLING CODE 4910-13-P